EQUAL EMPLOYMENT OPPORTUNITY COMMISSION

Availability of Final Guidelines for Ensuring and Maximizing the Quality, Objectively, Utility, and Integrity of Information Disseminated by U.S. Equal Employment Opportunity

AGENCY: Equal Employment Opportunity Commission.

ACTION: Notice.

SUMMARY: EEOC hereby announces the availability of its final information quality guidelines on its web site.

DATES: Effective Date: October 1, 2002.

FOR FURTHER INFORMATION CONTACT: Lizette Molina, Special Assistant to the Director, Office of Information Technology, (202) 663-4446, or Jay Friedman, Director of Strategic Planning and Management Controls Division, Office of Research, Information and Planning, (202) 663-4094.

SUPPLEMENTARY INFORMATION: The Equal Employment Opportunity Commission (EEOC) has finalized its Guidelines for Ensuring and Maximizing the Quality, Objectivity, Utility, and Integrity of Information Disseminated by the U.S. Equal Employment Opportunity Commission. These guidelines are currently published on EEOC's Web site www.eeoc.gov. Individuals without Intenet access may contact EEOC's Office of Communications and Legislative Affairs at (202) 663-4900 or TTY (202) 663-4494 for a hard copy.

Dated: October 2, 2002.
Sallie T. Hsieh,
Chief Information Officer, Equal Employment Opportunity Commission.

[FR Doc. 02-25580 Filed 10-7-02; 8:45 am]

BILLING CODE 6570-01-M